DEPARTMENT OF TRANSPORTATION

Pipeline and Hazardous Materials Safety Administration

Hazardous Materials: Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 28, 2016.

ADDRESSES: Send comments to Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hanrdous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on December 7, 2015.
Don Burger,
Chief, General Approvals and Permits.

Application No. | Docket No. | Applicant | Regulation(s) affected | Nature of special permit thereof
NEW SPECIAL PERMITS
16606-N |  | 5-State Helicopters Inc., Royse City, TX | 49 CFR 172.101 Hazardous Materials Table Column (9B), Subpart C of Part 172, 172.301(c), 175.30 | To authorize the transportation in commerce in the U.S. only of certain hazardous materials by 14 CFR part 133 Rotorcraft External Load Operations transporting hazardous materials attached to or suspended from an aircraft. Such transportation is in support of construction operations when the use of cranes or other lifting devices is impracticable or unavailable or when aircraft is the only means of transportation, without being subject to certain hazard communication requirements, quantity limitations, packaging and loading and storage requirements. (mode 4)
16612-N |  | Unipart North America, Limited Oxford, United Kingdom | 49 CFR 172.102(c), Special Provision A54, ICAO TI Special Provision A99 | To authorize the transportation in commerce of lithium ion batteries with a net weight exceeding 35 kg per package aboard cargo aircraft only. (mode 4)
16615-N |  | Special Devices, Incorporated, Simi Valley, CA | 49 CFR 172.320, 173.54(a), 173.54(j), 173.56(b), 173.57, 173.58 | To authorize the transportation in commerce of new pyrotechnic articles as commercial samples without being examined, tested, and approved when conforming to the terms of this special permit. (modes 1, 4)
NEW SPECIAL PERMITS
16618-N |  | Farmers Grain Company, Pond Creek, OK | 49 CFR 173.315(m)(1)(iv), 173.315(m)(1)(v), 173.315(m)(1)(vi) | To authorize the transportation in commerce of anhydrous ammonia in cargo tanks exceeding the authorized tank capacity and loaded to more than the authorized filling density percentage. (mode 1)
16620-N |  | Westeel Canada Inc., Winnipeg, Canada | 49 CFR 177.834(h), 178.75(d) | To authorize the manufacture, mark sale and use of Intermediate Bulk Containers (IBCs) each have a capacity less than 450 L for the transportation in commerce of certain Class 3 hazardous materials. Additionally, the discharge of these hazardous materials from the IBCs without removing them from the motor vehicle on which they are transported is authorized. (mode 1)

[FR Doc. 2015-32408 Filed 12-28-15; 8:45 am]

BILLING CODE 4909-60-M